DEPARTMENT OF THE TREASURY

Internal Revenue Service

26 CFR Part 300

[TD 9982]

RIN 1545-BQ26

User Fees Relating to Enrolled Actuaries; Correction

AGENCY: Internal Revenue Service (IRS), Treasury.

ACTION: Final regulations; correction.

SUMMARY: This document contains a correction to Treasury Decision 9982, which was published in the Federal Register for Friday, October 20, 2023. Treasury Decision 9982 issued final regulations amending existing regulations relating to user fees for enrolled actuaries.

DATES: This correction is effective on November 21, 2023.

FOR FURTHER INFORMATION CONTACT: Carolyn M. Lee at (202) 317-6845 (not a toll-free number).

SUPPLEMENTARY INFORMATION:

Background

The final regulations (TD 9982) that are the subject of this correction are under 26 CFR part 300—User Fees.

Corrections to Publication

Accordingly, the final regulations (TD 9982) that are the subject of FR Doc 2023-23301, published on October 20, 2023, are corrected on page 72370, in the first column, in the second line under the heading “List of Subjects in 26 CFR Part 300” by removing “Use fees” and adding “User fees” in its place.

Oluwafunmilayo A. Taylor,
Section Chief, Publications & Regulations Section, Associate Chief Counsel, (Procedure and Administration).

[FR Doc. 2023-25438 Filed 11-20-23; 8:45 am]

BILLING CODE 4830-01-P